DEPARTMENT OF THE INTERIOR

Bureau of Land Management

[MT-921-07-1320-EL-P; NDM 96918]

Notice of Invitation—Coal Exploration License Application NDM 96918

AGENCY: Bureau of Land Management, Interior.

ACTION: Notice.

SUMMARY: Members of the public are hereby invited to participate with Dakota Westmoreland Corporation in a program for the exploration of coal deposits owned by the United States of America in lands located in Mercer County, North Dakota, encompassing 640.00 acres.

FOR FURTHER INFORMATION CONTACT: Stephen Van Matre, Mining Engineer, or Connie Schaff, Land Law Examiner, Branch of Solid Minerals (MT-921), Bureau of Land Management (BLM), Montana State Office, 5001 Southgate Drive, Billings, Montana 59101-4669, telephone (406) 896-5082 or (406) 896-5060, respectively.

SUPPLEMENTARY INFORMATION: The lands to be explored for coal deposits are described as follows:

T.143N., R.88W., 5th P.M.

14: S½NW¼

20: NW¼NW¼, S½NW¼, N½SW¼, NW¼SE¼

22: S½

Any party electing to participate in this exploration program shall notify, in writing, both the State Director, BLM, 5001 Southgate Drive, Billings, Montana 59101-4669, and Dakota Westmoreland Corporation, P.O. Box 39, Beulah, North Dakota 58523. Such written notice must refer to serial number NDM 96918 and be received no later than 30 calendar days after publication of this Notice in the Federal Register or 10 calendar days after the last publication of this Notice in the Bismarck Tribune newspaper, whichever is later. This Notice will be published once a week for two (2) consecutive weeks in the Bismarck Tribune, Bismarck, North Dakota.

The proposed exploration program is fully described, and will be conducted pursuant to an exploration plan to be approved by the Bureau of Land Management. The exploration plan, as submitted by Dakota Westmoreland Corporation, is available for public inspection at the BLM, 5001 Southgate Drive, Billings, Montana, during regular business hours (9 a.m. to 4 p.m.), Monday through Friday.

Dated: August 15, 2007.
Edward L. Hughes,
Acting Chief, Branch of Solid Minerals.

[FR Doc. E7-16710 Filed 8-22-07; 8:45 am]

BILLING CODE 4310-$$-P